DEPARTMENT OF HOUSING AND URBAN DEVELOPMENT

[Docket No. FR-5828-N-28]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street NW., Washington, DC 20314; (202) 761-5542; ENERGY: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; NAVY: Mr. Steve Matteo, Department of the Navy, Asset Management; Division, Naval Facilities Engineering Command, Washington Navy Yard, 1330 Patterson Ave. SW., Suite 1000, Washington, DC 20374; (202) 685-9426 (These are not toll-free numbers).

Dated: July 2, 2015.
Juanita Perry,
SNAPS Specialist/Title V Lead, Office of Special Needs Assistance Programs.

TITLE V, FEDERAL SURPLUS PROPERTY PROGRAM FEDERAL REGISTER REPORT FOR 07/10/2015

Suitable/Available Properties

Building

Georgia

Upper Tanyard Creek Day

Upper Tanyard Creek

Allatoona GA

Landholding Agency: COE

Property Number: 31201520009

Status: Unutilized

Comments: Off-site removal only; 26+ yrs. old; 483 sq. ft.; recreational toilet facility; very poor conditions; has been vandalized & needs repairs; no future agency need; contact COE for more information.

Nebraska

Grand Island U.S. Post Office and Courthouse

203 West 2nd Street

Grand Island NE 68801

Landholding Agency: GSA

Property Number: 54201520018

Status: Surplus

GSA Number: 7G-NE-0519-AA

Directions: (RPUID)NE0018ZZ

Comments: 105+ yrs. old; 5,508 sq. ft.; office; good condition; asbestos; sits on 0.53 acres; listed on Nat. Reg. of Historic Place; need to contact property manager for aces.; contact GSA for more info.

Land

Hawaii

1.76 Acre Parcel

Radford Drive & Kamehameha Hwy

JBPHH Honolulu HI 96860

Landholding Agency: Navy

Property Number: 77201520023

Status: Underutilized

Comments: 1.76 acres; landscape; because of legal constraint it is unlikely the parcel will be available for one year or more; no future agency need; contact Navy for more information.

Tennessee

(+/−) 72 Acre Site

5722 Integrity Dr.

Millington TN 38054

Landholding Agency: Navy

Property Number: 77201520025

Status: Underutilized

Comments: Current use: Family housing area (bldgs. demo in 2008); contamination—termiticide

Unsuitable Properties

Building

South Carolina

Building 155, Motor Transport

Garage

Cape Gauffre St.

MCRD Parris Island SC

Landholding Agency: Navy

Property Number: 77201520026

Status: Excess

Comments: Public access denied and no alternative method to gain access without compromising national security

Reasons: Secured Area

Building 156, Vehicle Shed

Cape Gauffre St.

MCRD Parris Island SC

Landholding Agency: Navy

Property Number: 77201520027

Status: Excess

Comments: Public access denied and no alternative method to gain access without compromising national security

Reasons: Secured Area

Building 156A, Vehicle Shed

Blvd. De France

MCRD Parris Island SC

Landholding Agency: Navy

Property Number: 77201520028

Status: Excess

Comments: Public access denied and no alternative method to gain access without compromising national security

Reasons: Secured Area

Building 176,

Vehicle Maintenance

Cape Gauffre St.

MCRD Parris Island SC

Landholding Agency: Navy

Property Number: 77201520029

Status: Excess

Comments: Public access denied and no alternative method to gain access without compromising national security

Reasons: Secured Area

Building 176A, Refueling

Vehicle Shop (Shed)

Cape Gauffre St.

MRCD Parris Island SC

Landholding Agency: Navy

Property Number: 77201520030

Status: Excess

Comments: Public access denied and no alternative method to gain access without compromising national security

Reasons: Secured Area

Building 759, Shotgun Range

Head

Wake Blvd.

MRCD Parris Island SC

Landholding Agency: Navy

Property Number: 77201520031

Status: Excess

Comments: Public access denied and no alternative method to gain access without compromising national security

Reasons: Secured Area

3 Buildings

Y-12 National Security Complex

Oak Ridge TN 37831

Landholding Agency: Energy

Property Number: 41201520003

Status: Unutilized

Directions: 9409-34 Cooling Tower; 9727-04a Annex Building. 9727-04 Utility

Comments: Public access denied and no alternative method to gain access without compromising National Security.

Reasons: Secured Area

Land

Florida

450 Acre Land Parcel

NAS Pensacola Special Area Saufley Field

Pensacola FL 32508

Landholding Agency: Navy

Property Number: 77201520032

Status: Underutilized

Comments: Property located within an airport runway clear zone or military airfield; public access denied and no alternative method to gain access without compromising national security.

Reasons: Secured Area; Within airport runway clear zone

Mississippi

229 Acres

7th & 9th Sts./Goodier Ave & Upper Nixon Ave

Gulfport MS 39503

Landholding Agency: Navy

Property Number: 77201520024

Status: Unutilized

Comments: Public access denied and no alternative method to gain access without compromising National Security.

Reasons: Secured Area

New Mexico

Sandia National Laboratories

6596

Albuquerque NM 87123

Landholding Agency: Energy

Property Number: 41201520002

Status: Excess

Comments: Public access denied and no alternative method to gain access without compromising National Security.

Reasons: Secured Area

Rhode Island

159 Acres Land

Naval Station Newport

Middletown RI 02841

Landholding Agency: Navy

Property Number: 77201520022

Status: Underutilized

Directions: McAllister Point Tank Farm 5 (11 acres);Tank Farm 4 (83 acres)

Comments: Public access denied and no alternative method to gain access without compromising national security.

Reasons: Secured Area

[FR Doc. 2015-16738 Filed 7-9-15; 8:45 am]

BILLING CODE 4210-67-P